INTERNATIONAL TRADE COMMISSION

[Investigation Nos. 731-TA-624 and 625 (Second Review)]

Helical Spring Lock Washers From China and Taiwan

Determinations

On the basis of the record ¹ developed in the subject five-year reviews, the United States International Trade Commission (Commission) determines, pursuant to section 751(c) of the Tariff Act of 1930 (19 U.S.C. 1675(c)) (the Act), that revocation of the antidumping duty orders on helical spring lock washers from China and Taiwan, would be likely to lead to continuation or recurrence of material injury to an industry in the United States within a reasonably foreseeable time.²

¹ The record is defined in section 207.2(f) of the Commission's Rules of Practice and Procedure (19 CFR 207.2(f)).

² Chairman Stephen Koplan and Commissioners Jennifer A. Hillman, Charlotte R. Lane, and Shara L. Aranoff voted in the affirmative with respect to both countries. Vice Chairman Deanna Tanner Okun and Commissioner Daniel R. Pearson voted in the affirmative with respect to China and in the negative with respect to Taiwan.

Background

The Commission instituted these reviews on January 3, 2006 (71 FR 133) and determined on April 10, 2006 that it would conduct expedited reviews (71 FR 23946). Notice of the scheduling of the Commission's reviews was given by posting copies of the notice in the Office of the Secretary, U.S. International Trade Commission, Washington, DC, and by publishing the notice in the Federal Register on April 25, 2006 (71 FR 23946).

The Commission transmitted its determinations in these reviews to the Secretary of Commerce on June 15, 2006. The views of the Commission are contained in USITC Publication 3858 (June 2006), entitled Helical Spring Lock Washers from China and Taiwan (Inv. Nos. 731-TA-624 and 625 (Second Review)).

Issued: June 15, 2006.
By order of the Commission.
Marilyn R. Abbott,
Secretary to the Commission.

[FR Doc. E6-9675 Filed 6-19-06; 8:45 am]

BILLING CODE 7020-02-P